FEDERAL COMMUNICATIONS COMMISSION

[OMB 3060-0999]

Information Collections Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid Office of Management and Budget (OMB) control number. No person shall be subject to any penalty for failing to comply with a collection of information subject to the PRA that does not display a valid OMB control number.

DATES: Written comments should be submitted on or before April 29, 2019. If you anticipate that you will be submitting comments but find it difficult to do so within the period of time allowed by this notice, you should advise the contacts below as soon as possible.

ADDRESSES: Direct all PRA comments to Cathy Williams, FCC, via email: PRA@fcc.gov and to Cathy.Williams@fcc.gov.

FOR FURTHER INFORMATION CONTACT: For additional information about the information collection, contact Cathy Williams at (202) 418-2918.

SUPPLEMENTARY INFORMATION:

OMB Control No.: 3060-0999.

Title: Hearing Aid Compatibility Status Report and Section 20.19, Hearing Aid-Compatible Mobile Handsets (Hearing Aid Compatibility Act).

Form Number: FCC Form 655.

Type of Review: Revision of a currently approved collection.

Respondents: Business or other for-profit entities.

Number of Respondents: 934 respondents; 934 responses.

Estimated Time per Response: 13.9710921 hours per response (average).

Frequency of Response: On occasion and annual reporting requirements, Recordkeeping requirement and third-party disclosure requirement.

Obligation to Respond: Required to obtain or retain benefits. Statutory authority for this information collection is contained in 47 U.S.C. Sections 151, 154(i), 157, 160, 201, 202, 214, 301, 303, 308, 309(j), 310 and 610 of the Communications Act of 1934, as amended.

Total Annual Burden: 13,049 hours.

Total Annual Cost: No cost.

Privacy Impact Assessment: No impact.

Nature and Extent of Confidentiality: Information requested in the reports may include confidential information. However, covered entities can request that such materials submitted to the Commission be withheld from public inspection.

Needs and Uses: After the 60-day comment period expires, the Commission will submit the revised information collection to the Office of Management and Budget (OMB) to obtain a full three-year clearance. The changes being made to the information collect concern the Commission's wireless hearing aid combability rules as they relate to the obligations of wireless service providers to post certain information on their websites, retain information and to file annual compliance certifications. No changes are being made to the website posting and reporting burdens of wireless handset manufacturers. Further, no changes are being made to the information collection as related to standards development, labeling and disclosure requirements, and the approved number of estimated respondents/responses.

The revisions to the information collection are necessitated by a Report and Order in WT Docket No. 17-228, FCC 18-167, adopted on November 15, 2018. In this Report and Order, the Commission revised its rules requiring service providers to post on their publicly accessible websites information regarding the hearing aid compatibility of their offered handsets and required them to retain certain information regarding the hearing aid compatibility of handsets they previously offered. Through this information, consumers will have access to the most recent data about hearing aid-compatible handsets and the Commission will be able to ensure compliance with the hearing aid compatibility rules and requirements. In addition, the Commission determined that service providers are no longer required to file FCC Form 655 on an annual basis. Instead, providers must file an annual certification indicating whether they are compliant with the hearing aid compatibility rules.

As part of these revisions to the wireless hearing aid compatibility information collection, the Commission is requesting approval of certain changes to the form and the related instructions. These changes to the form and its instructions implement the new certification compliance requirement for service providers and maintain the existing compliance requirements for device manufacturers. These changes to the form reduce service providers' regulatory burden while continuing to allow the Commission to monitor compliance with the hearing aid compatibility rules.

Federal Communications Commission.
Marlene Dortch,
Secretary, Office of the Secretary.

[FR Doc. 2019-03234 Filed 2-25-19; 8:45 am]

BILLING CODE 6712-01-P